NATIONAL TRANSPORTATION SAFETY BOARD

Sunshine Act Meeting

TIME AND DATE: 1:00 p.m., Tuesday, November 2, 2021.

PLACE: Virtual.

STATUS: The one item may be viewed by the public through webcast only.

MATTER TO BE CONSIDERED:

67364 Investigation Report—Runway Overrun During Landing, Peninsula Aviation Services Inc., d.b.a. PenAir flight 3296, Saab 2000, N686PA, Unalaska, Alaska, October 17, 2019

CONTACT PERSON FOR MORE INFORMATION: Candi Bing at (202) 590-8384 or by email at bingc@ntsb.gov.

Media Information Contact: Peter Knudson by email at peter.knudson@ntsb.gov or (202) 314-6100.

This meeting will take place virtually. The public may view it through a live or archived webcast by accessing a link under “Webcast of Events” on the NTSB home page at www.ntsb.gov.

There may be changes to this event due to the evolving situation concerning the novel coronavirus (COVID-19). Schedule updates, including weather-related cancellations, are also available at www.ntsb.gov.

The National Transportation Safety Board is holding this meeting under the Government in the Sunshine Act, 5 U.S.C. 552(b).

Dated: Thursday, October 14, 2021.
Candi R. Bing,
Federal Register Liaison Officer.

[FR Doc. 2021-22727 Filed 10-14-21; 11:15 am]

BILLING CODE 7533-01-P